DEPARTMENT OF THE INTERIOR

Bureau of Ocean Energy Management

[Docket No.: BOEM-2020-0018]

Outer Continental Shelf, Alaska Region, Cook Inlet Planning Area, Oil and Gas Lease Sale 258

AGENCY: Bureau of Ocean Energy Management, Interior.

ACTION: Amended notice of intent.

SUMMARY: The Bureau of Ocean Energy Management (BOEM) will follow the new Department of Interior (DOI) National Environmental Policy Act (NEPA) regulations in preparing the supplemental environmental impact statement (EIS) for Lease Sale 258. BOEM will comply with these revised DOI NEPA regulations, procedures, and handbook for the remainder of the supplemental EIS process. As such, a notice of availability (NOA) for the draft supplemental EIS will not be issued for public comment, nor will public hearings be held. This supplemental EIS will provide new analysis in response to a remand by the U.S. District Court for the District of Alaska (Court). BOEM currently plans to complete and publish the final supplemental EIS by the end of 2025.

FOR FURTHER INFORMATION CONTACT: For information on the Cook Inlet Lease Sale 258 supplemental EIS or BOEM's policies associated with this notice, please contact Mr. Casey Rowe, Supervisor, Environmental Analysis Section, Bureau of Ocean Energy Management, Alaska OCS Region, 3801 Centerpoint Drive, Suite 500, Anchorage, Alaska 99503-5820, telephone (907) 312-3788, email casey.rowe@boem.gov.

SUPPLEMENTARY INFORMATION: In its April 4, 2025, notice of intent (NOI), Docket No. BOEM-2020-0018 (90 FR 14866), BOEM announced its intent to prepare a supplemental EIS (Unique Identification Number DOI-BOEM-AK-2025-0001-EIS) for Outer Continental Shelf (OCS) Oil and Gas Lease Sale 258 in the Cook Inlet Planning Area, Alaska. BOEM amends its April 4, 2025, NOI to notify the public that, since the initial NOI was issued, the Council of Environmental Quality rescinded its NEPA implementing regulations effective April 11, 2025, 90 FR 10610 (Feb. 25, 2025). On July 3, 2025, DOI issued an interim final rule partially rescinding its NEPA implementing regulations and announcing that the remainder of its NEPA procedures will be maintained in a handbook separate from the Code of Federal Regulations, 90 FR 29498 (July 3, 2025). DOI's handbook of NEPA procedures is available at https://www.doi.gov/oepc/national-environmental-policy-act-nepa.

BOEM was required to hold Cook Inlet Lease Sale 258 (Lease Sale 258) by the end of December 2022, as directed in the Inflation Reduction Act of 2022 (Pub. L. 117-169, enacted Aug. 16, 2022). On October 28, 2022, the NOA of the Cook Inlet Lease Sale 258 final EIS was published in the Federal Register (87 FR 65247). Subsequently, on November 22, 2022, the Assistant Secretary for Land and Minerals Management signed the record of decision (ROD), and BOEM published the NOA in the Federal Register on November 29, 2022 (87 FR 73322). On December 30, 2022, BOEM held Lease Sale 258, receiving one bid on one block, resulting in the issuance of one lease.

On December 21, 2022, plaintiffs Cook Inletkeeper, et al., filed a lawsuit in the U.S. District Court for the District of Alaska under the Administrative Procedure Act alleging several violations of NEPA. On July 16, 2024, the Court ruled partially in favor of the plaintiffs and remanded without vacatur the Lease Sale 258 final EIS and ROD to BOEM to prepare a supplemental EIS to address three deficiencies identified by the Court. The three deficiencies identified by the Court are summarized as follows: (1) failure to consider a reasonable range of alternatives, specifically with respect to alternatives that would offer for lease a reduced number of blocks and meaningfully reduce overall impacts; (2) failure to take the requisite “hard look” at the impact of vessel noise from Lease Sale 258 on Cook Inlet beluga whales; and (3) failure to consider the cumulative impacts on Cook Inlet beluga whales separately from other marine mammals.

As a result of the Court's decision, BOEM announced its intent to prepare a supplemental EIS for Lease Sale 258 in its NOI published on April 4, 2025. The supplemental EIS will provide additional analyses to address the deficiencies identified by the Court. At the completion of the supplemental EIS process, the Secretary of the Interior or his designee will issue a modified ROD.

Consistent with section 3.6 of the DOI NEPA handbook and DOI's NEPA implementing regulations at 43 CFR part 46, DOI has determined that scoping and circulation of a draft supplemental EIS for public comment is not required, as the Court has determined the scope of the supplemental EIS.

Authority: This amended NOI is published pursuant to Department of the Interior regulations (43 CFR part 46) implementing the procedural provisions of the National Environmental Policy Act (NEPA) of 1969, as amended (42 U.S.C. 4321 et seq.).

Matthew Giacona,
Acting Director, Bureau of Ocean Energy Management.

[FR Doc. 2025-18095 Filed 9-17-25; 8:45 am]

BILLING CODE 4340-98-P